DEPARTMENT OF LABOR

Employment and Training Administration

[TA-W-55,104]

Geschmay Corporation, a Division of Albany International, Greenville, SC; Amended Certification Regarding Eligibility To Apply for Worker Adjustment Assistance and Alternative Trade Adjustment Assistance

In accordance with Section 223 of the Trade Act of 1974 (19 U.S.C. 2273) the Department of Labor issued a Certification of Eligibility to Apply for Worker Adjustment Assistance and Alternative Trade Adjustment Assistance on July 12, 2004, applicable to workers of Geschmay Corporation, a division of Albany International, Greenville, South Carolina. The notice will be published soon in the Federal Register.

At the request of the State agency, the Department reviewed the certification for workers of the subject firm. The workers are engaged in the production of press fabrics which are used in the production of paper and are separately identifiable by product line.

New findings show that there was a previous certification, TA-W-40,951, issued on July 23, 2002, for workers of Albany International Corporation, Geschmay Plant, Greenville, South Carolina who were engaged in employment related to the production of press fabrics. That certification expired July 23, 2004. To avoid an overlap in worker group coverage, the certification is being amended to change the impact date from June 8, 2003 to July 24, 2004, for workers of the subject firm.

The amended notice applicable to TA-W-55,104 is hereby issued as follows:

All workers of Geschmay Corporation, a division of Albany International, Greenville, South Carolina, engaged in employment related to the production of press fabrics, who became totally or partially separated from employment on or after July 24, 2004, through July 12, 2006, are eligible to apply for adjustment assistance under Section 223 of the Trade Act of 1974 and are also eligible to apply for alternative trade adjustment assistance under Section 246 of the Trade act of 1974.

Signed at Washington, DC, this 30th day of July 2004.
Linda G. Poole,
Certifying Officer, Division of Trade Adjustment Assistance.

[FR Doc. 04-18232 Filed 8-9-04; 8:45 am]

BILLING CODE 4510-30-P